DEPARTMENT OF TRANSPORTATION

Federal Aviation Administration

14 CFR Part 39

[Docket No. FAA-2025-1733; Project Identifier MCAI-2025-00762-T; Amendment 39-23110; AD 2025-16-12]

RIN 2120-AA64

Airworthiness Directives; Airbus SAS Airplanes

AGENCY: Federal Aviation Administration (FAA), DOT.

ACTION: Final rule; request for comments.

SUMMARY: The FAA is adopting a new airworthiness directive (AD) for all Airbus SAS Model A319-151N, -153N, -171N, and -173N airplanes; Model A320-251N, -252N, -253N, -271N, -272N, and -273N airplanes; and Model A321-251N, -252N, -253N, -271N, -272N, -251NX, -252NX, -253NX, -271NX, -272NX, -253NY, and -271NY airplanes. This AD was prompted by occurrences of high-pressure bleed valve (HPV) butterfly seal retention clip rupture. This AD requires revising the existing airplane flight manual (AFM) and the existing FAA-approved minimum equipment list (MEL), allows replacement of each affected HPV as an optional terminating action, and prohibits the installation of affected parts. The FAA is issuing this AD to address the unsafe condition on these products.

DATES: This AD is effective August 29, 2025.

The Director of the Federal Register approved the incorporation by reference of a certain publication listed in this AD as of August 29, 2025.

The FAA must receive comments on this AD by September 29, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1733; or in person at Docket Operations between 9 a.m. and 5 p.m., Monday through Friday, except Federal holidays. The AD docket contains this final rule, the mandatory continuing airworthiness information (MCAI), any comments received, and other information. The street address for Docket Operations is listed above.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-1733.

FOR FURTHER INFORMATION CONTACT: Frank Carreras, Aviation Safety Engineer, FAA, 2200 South 216th St., Des Moines, WA 98198; phone: 206-231-3539; email: Frank.Carreras@faa.gov.

SUPPLEMENTARY INFORMATION:

Comments Invited

The FAA invites you to send any written data, views, or arguments about this final rule. Send your comments using a method listed under the ADDRESSES section. Include “Docket No. FAA-2025-1733; Project Identifier MCAI-2025-00762-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Frank Carreras, Aviation Safety Engineer, FAA, 2200 South 216th St., Des Moines, WA 98198; phone: 206-231-3539; email: Frank.Carreras@faa.gov. Any commentary that the FAA receives which is not specifically designated as CBI will be placed in the public docket for this rulemaking.

Background

EASA, which is the Technical Agent for the Member States of the European Union, has issued EASA AD 2025-0096, dated April 28, 2025 (EASA AD 2025-0096) (also referred to as “the MCAI”), to correct an unsafe condition for all Airbus SAS Model A319-151N, -153N, -171N, and -173N airplanes; Model A320-251N, -252N, -253N, -271N, -272N, and -273N airplanes; and Model A321-251N, -252N, -253N, -271N, -272N, -251NX, -252NX, -253NX, -271NX, -272NX, -253NY, and -271NY airplanes. The MCAI states that occurrences were reported of HPV butterfly seal retention clip rupture, which causes the butterfly seals to no longer be retained in the butterfly groove. This may increase internal leakage, triggering an alert that the HPV has failed in the open condition. It may also release foreign object debris, which could damage the systems (e.g., engine bleed air system and pneumatic system) downstream from the HPV on the engine pylon and wing. This condition, if not detected and corrected, could lead to high pressure and temperatures in the duct downstream from the pressure regulating valve, which could result in duct burst, damage to several systems or the airframe, and consequent loss of control of the airplane.

The FAA is issuing this AD to address the unsafe condition on these products.

You may examine the MCAI in the AD docket at regulations.gov under Docket No. FAA-2025-1733.

Material Incorporated by Reference Under 1 CFR Part 51

The FAA reviewed EASA AD 2025-0096, which specifies procedures for amending the existing AFM by incorporating a temporary revision, implementing a master MEL (MMEL) update, and repetitively replacing each affected HPV clip. EASA AD 2025-0096 includes an optional terminating action of replacing each affected HPV with a non-affected HPV and prohibits installing an affected HPV on any airplane. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this AD after determining that the unsafe condition described previously is likely to exist or develop on other products of the same type design.

Requirements of This AD

This AD requires accomplishing the actions specified in EASA AD 2025-0096 described previously, except for any differences identified as exceptions in the regulatory text of this AD. See “Differences Between this AD and the MCAI” for a discussion of the general differences included in this AD.

Differences Between This AD and the MCAI

Paragraph (4) of EASA AD 2025-0096 specifies repetitively replacing each affected HPV clip with another affected HPV clip at intervals not to exceed 4,000 flight hours or 2,000 flight cycles, whichever occurs later. The initial replacement must be done at the later time of either (1) before exceeding 4,000 flight hours or 2,000 flight cycles, whichever occurs first since the affected HPV clip was installed; or (2) within 2,500 flight hours or 1,250 flight cycles, whichever occurs first from the effective date of EASA AD 2025-0096. The FAA is considering requiring this repetitive replacement. However, the planned compliance time would allow enough time to give the public an opportunity to comment on the merits of the replacement and the unsafe condition is being addressed through the revision of the AFM and MEL. Therefore, this AD does not adopt the requirements of paragraph (4) of EASA AD 2025-0096. However, operators may still do these optional repetitive replacements.

Compliance With AFM and MEL Revisions

EASA AD 2025-0096 requires operators to “inform all flight crew” of revisions to the AFM and MEL, and thereafter to “operate the aeroplane accordingly.” However, this AD does not specifically require those actions as those actions are already required by FAA regulations. FAA regulations require operators furnish to pilots any changes to the AFM (for example, 14 CFR 121.137), and to ensure the pilots are familiar with the AFM (for example, 14 CFR 91.505). As with any other flightcrew training requirement, training on the updated AFM content is tracked by the operators and recorded in each pilot's training record, which is available for the FAA to review. FAA regulations also require pilots to follow the procedures in the existing AFM including all updates. Section 91.9 requires that any person operating a civil aircraft must comply with the operating limitations specified in the AFM. Section 121.628 (a)(2) requires operators to provide pilots with access to all the information contained in the operator's MEL. Furthermore, 14 CFR 121.628 (a)(5) requires airplanes to be operated under all applicable conditions and limitations contained in the operator's MEL. Therefore, including a requirement in this AD to operate the airplane according to the revised AFM and MEL would be redundant and unnecessary.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2025-0096 is incorporated by reference in this AD. This AD requires compliance with EASA AD 2025-0096 in its entirety through that incorporation, except for any differences identified as exceptions in the regulatory text of this AD. Using common terms that are the same as the heading of a particular section in EASA AD 2025-0096 does not mean that operators need comply only with that section. For example, where the AD requirement refers to “all required actions and compliance times,” compliance with this AD requirement is not limited to the section titled “Required Action(s) and Compliance Time(s)” in EASA AD 2025-0096. Material required by EASA AD 2025-0096 for compliance will be available at regulations.gov under Docket No. FAA-2025-1733 after this AD is published.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because a ruptured HPV butterfly seal retention clip allows the seals to move, partially or totally, from their original position, increasing internal leakage and leading to an HPV Fail Open alert triggering condition. This rupture and movement could lead to the release of foreign object debris and subsequent damage to downstream systems on the engine pylon and wing, including the pressure regulating valve. This could lead to high pressure and temperatures in the duct downstream from the pressure regulating valve and possible duct burst, damage to systems or the airframe, and loss of control of the airplane. Additionally, the compliance time in this AD is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 554 airplanes of U.S. registry. The FAA estimates the following costs to comply with this AD:

Estimated Costs for AFM and MEL Revision
Labor cost | Parts cost | Cost per product | Cost on U.S. operators
2 work-hours × $85 per hour = $170 | $0 | $170 | $94,180

Estimated Costs for HPV Replacement
Labor cost | Parts cost | Cost per product
32 work-hours × $85 per hour = $2,720 | $2,800 | $5,520

The FAA has included all known costs in its cost estimate. According to the manufacturer, however, some or all of the costs of this AD may be covered under warranty, thereby reducing the cost impact on affected operators

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-16-12 Airbus SAS: Amendment 39-23110; Docket No. FAA-2025-1733; Project Identifier MCAI-2025-00762-T.

(a) Effective Date

This airworthiness directive (AD) is effective August 29, 2025.

(b) Affected ADs

None.

(c) Applicability

This AD applies to all Airbus SAS airplanes identified in paragraphs (c)(1) through (3) of this AD, certificated in any category.

(1) Model A319-151N, -153N, -171N, and -173N airplanes.

(2) Model A320-251N, -252N, -253N, -271N, -272N, and -273N airplanes.

(3) Model A321-251N, -252N, -253N, -271N, -272N, -251NX, -252NX, -253NX, -271NX, -272NX, -253NY, and -271NY airplanes.

(d) Subject

Air Transport Association (ATA) of America Code 36, Pneumatic.

(e) Unsafe Condition

This AD was prompted by occurrences of high-pressure bleed valve (HPV) butterfly seal retention clip rupture. The FAA is issuing this AD to address high pressure and temperatures in the duct downstream from the pressure regulating valve, which could lead to duct burst and result in damage to several systems or the airframe and consequent loss of control of the airplane.

(f) Compliance

Comply with this AD within the compliance times specified, unless already done.

(g) Requirements

Except as specified in paragraph (h) of this AD: Comply with all required actions and compliance times specified in, and in accordance with, European Union Aviation Safety Agency (EASA) AD 2025-0096, dated April 28, 2025 (EASA AD 2025-0096).

(h) Exceptions to EASA AD 2025-0096

(1) Where EASA AD 2025-0096 refers to its effective date, this AD requires using the effective date of this AD.

(2) Where paragraphs (1) and (3) of EASA AD 2025-0096 specify to “inform all flight crews, and, thereafter, operate the aeroplane accordingly,” this AD does not require those actions as those actions are already required by existing FAA operating regulations (see 14 CFR 91.9, 91.505, 121.137, 121.628(a)(2) and 121.628(a)(5)).

(3) Where paragraph (3) of EASA AD 2025-0096 specifies to “implement the instructions of the MMEL update, as applicable, depending on aeroplane configuration (see Note 1 of this AD), on the basis of which the operator's MEL must be amended”, this AD requires replacing that text with “revise the operator's existing FAA-approved MEL by incorporating the applicable information identified in “The MMEL update” as defined in EASA AD 2024-0157”.

(4) Where the service information required by EASA AD 2025-0096 specifies discarding parts, this AD requires removing those parts from service.

(5) This AD does not adopt the requirements specified in paragraph (4) of EASA AD 2025-0096.

(6) This AD does not adopt the “Remarks” section of EASA AD 2025-0096.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material referenced in EASA AD 2025-0096 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC

(j) Additional Information

For more information about this AD, contact Frank Carreras, Aviation Safety Engineer, FAA, 2200 South 216th St., Des Moines, WA 98198; phone: 206-231-3539; email: Frank.Carreras@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2025-0096, dated April 28, 2025.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 8, 2025.
Lona C. Saccomando,
Acting Deputy Director, Integrated Certificate Management Division, Aircraft Certification Service.

[FR Doc. 2025-15482 Filed 8-12-25; 2:00 pm]

BILLING CODE 4910-13-P